DEPARTMENT OF TRANSPORTATION

Federal Aviation Administration

14 CFR Part 39

[Docket No. FAA-2013-0056; Directorate Identifier 2012-NE-48-AD

RIN 2120-AA64

Airworthiness Directives; Hamilton Sundstrand Corporation Propellers

AGENCY: Federal Aviation Administration (FAA), DOT.

ACTION: Proposed rule; withdrawal.

SUMMARY: The FAA is withdrawing a notice of proposed rulemaking (NPRM). The NPRM proposed a new airworthiness directive (AD) that had applied to certain Hamilton Sundstrand Corporation 14SF-7, 14SF-15, and 14SF-23 series propellers. The NPRM had applied to those propellers using certain Hamilton Sundstrand Corporation auxiliary pumps and motors (auxiliary feathering pumps). The proposed action would have required removal of certain serial numbers (S/Ns) of auxiliary feathering pumps from service. Since we issued the NPRM, we attended a meeting sponsored by Hamilton Sundstrand Corporation, which provided additional information regarding the unsafe condition. The information included results from bond strength tests that predicts a significantly lower fleet risk than the prior qualitative analysis. Accordingly, we withdraw the proposed rule.

FOR FURTHER INFORMATION CONTACT: Michael Schwetz, Aerospace Engineer, Boston Aircraft Certification Office, FAA, Engine & Propeller Directorate, 12 New England Executive Park, Burlington, MA 01803; phone: 781-238-7761; fax: 781-238-7170; email: michael.schwetz@faa.gov.

SUPPLEMENTARY INFORMATION: The FAA proposed to amend 14 CFR part 39 with a proposed AD (78 FR 9001, February 7, 2013). The proposed AD had applied to Hamilton Sundstrand Corporation 14SF-7, 14SF-15, and 14SF-23 series propellers using certain Hamilton Sundstrand Corporation auxiliary feathering pumps. The NPRM proposed to require removing certain S/Ns of auxiliary feathering pumps from service. The proposed action was prompted by a report of a propeller not moving into the feathering position after an engine in-flight shutdown. The unsafe condition had applied to certain Hamilton Sundstrand Corporation 14SF-7, 14SF-15, and 14SF-23 series propellers using certain Hamilton Sundstrand Corporation auxiliary pumps and motors (auxiliary feathering pumps). The proposed actions intended to prevent propellers from failing to move into the feathering position after an engine in-flight shutdown.

Since we issued the NPRM (78 FR 9001, February 7, 2013), additional information became available after the public comment period closed on March 25, 2013.

Upon further consideration, we hereby withdraw the proposed rule for the following reasons:

• Auxiliary feathering pump motors returned to Hamilton Sundstrand Corporation were tested to measure the bonding strength holding the magnets to the motor housing.

• The test results did not substantiate the initial qualitative risk assessment.

• The data gathered was then used for a more representative quantitative risk analysis.

• The results from the bond strength tests predicts a significantly lower fleet risk than the prior qualitative analysis.

Withdrawal of the NPRM (78 FR 9001, February 7, 2013) constitutes only such action, and does not preclude the agency from issuing another notice in the future, nor does it commit the agency to any course of action in the future.

Since this action only withdraws a notice of proposed rulemaking, it is neither a proposed nor a final rule. Therefore, Executive Order 12866, the Regulatory Flexibility Act, or DOT Regulatory Policies and Procedures (44 FR 11034, February 26, 1979) do not cover this withdrawal.

List of Subjects in 14 CFR Part 39

Air transportation, Aircraft, Aviation safety, Incorporation by reference, Safety.

The Withdrawal

Accordingly, the notice of proposed rulemaking, Docket No. FAA-2013-0056; Directorate Identifier 2012-NE-48-AD, published in the Federal Register on February 7, 2013 (78 FR 9001), is withdrawn.

Issued in Burlington, Massachusetts, on July 15, 2013.
Colleen M. D'Alessandro,
Assistant Manager, Engine & Propeller Directorate, Aircraft Certification Service.

[FR Doc. 2013-17479 Filed 7-19-13; 8:45 am]

BILLING CODE 4910-13-P